DEPARTMENT OF THE INTERIOR

National Park Service

Notice of Intent to Prepare an Environmental Impact Statement for a General Management Plan Amendment/Wilderness Study, for Gates of the Arctic National Park and Preserve, Alaska

AGENCY: National Park Service, Department of the Interior.

ACTION: Notice of Intent to prepare an Environmental Impact Statement for a General Management Plan Amendment/Wilderness Study, for Gates of the Arctic National Park and Preserve, Alaska.

SUMMARY: Pursuant to the National Environmental Policy Act of 1969 (42 U.S.C. 4332(2)(C)), the National Park Service (NPS) is preparing an environmental impact statement for a general management plan amendment, including a wilderness study, for Gates of the Arctic National Park and Preserve, Alaska. The environmental impact statement will be approved by the Regional Director, Alaska Region.

A notice of intent to prepare an environmental impact statement for a backcountry management plan/general management plan amendment for Gates of the Arctic was published in the September 23, 2002, Federal Register 67(184). However, that plan was never completed. This notice of intent replaces the September 23, 2002, notice.

The general management plan amendment will establish the overall direction for both the park and preserve (referred to hereafter as park), setting broad management goals for managing the area during the next 15 to 20 years. The plan will prescribe desired resource conditions and visitor experiences that are to be achieved and maintained throughout the park based on such factors as the park's purpose, significance, special mandates, the body of laws and policies directing park management, resource analysis, and public input. The plan also will outline the kinds of resource management activities, visitor activities, and developments that would be appropriate in the park in the future. In addition, the plan will generally address visitor-use related issues and provide management direction for the six designated wild rivers within the park. The wilderness study will evaluate portions of Gates of the Arctic National Park and Preserve for possible recommendation for wilderness designation. The wilderness study will be included as part of the general management plan amendment.

A range of reasonable alternatives for managing the park will be developed through this planning process and will include, at a minimum, a no-action and a NPS preferred alternative. Major issues the plan amendment will address include visitor access and use of the park, level of administrative and scientific research activities, management of natural and cultural resources, protection of the wilderness character, management adaptations to climate change, external threats the park is or will be facing, partnership opportunities, and collaboration with other land managers to address regional issues. The environmental impact statement will evaluate the potential environmental impacts of the alternative management approaches and the possible proposal for additional wilderness designation within the park.

As the first phase of the planning process, the National Park Service is identifying the issues to be addressed in the general management plan amendment/wilderness study/environmental impact statement. All interested persons, organizations, and agencies are encouraged to submit comments and suggestions on issues and concerns that should be addressed in the general management plan amendment/wilderness study/environmental impact statement, and the range of appropriate alternatives that should be examined.

DATES: The National Park Service is planning to begin public scoping in January 2010 via a newsletter to State and Federal agencies; associated native corporations; neighboring communities; borough; local organizations, researchers and institutions; the congressional delegation; and other interested members of the public. In addition, the National Park Service will hold public scoping meetings regarding the general management plan amendment in the winter of 2010 in Anchorage, Fairbanks, and many of the resident zone communities of Gates of the Arctic. Specific dates, times, and locations will be announced in the local media, on the Internet at http://www.nps.gov/gaar, and will also be available by contacting the park headquarters. In addition to attending the scoping meetings, people wishing to provide input to this initial phase of developing the general management plan/wilderness study/environmental impact statement may mail or e-mail comments to the park at the address below.

Written comments concerning the scope of the general management plan/wilderness study/environmental impact statement will be accepted for 60 days from the publication of this notice.

ADDRESSES: If you wish to comment on any issues and opportunities associated with the plan, you may submit your comments by any one of several methods. You may comment via the Internet to http://parkplanning.nps.gov/gaar. You may also mail comments to Gates of the Arctic National Park and Preserve, 4175 Geist Road, Fairbanks, Alaska 99709. Finally, you may hand-deliver comments to the park at the above address.

General park information and requests to be added to the project mailing list should be directed to: the Superintendent, Gates of the Arctic National Park and Preserve, 4175 Geist Road, Fairbanks, Alaska 99709.

FOR FURTHER INFORMATION CONTACT: Greg Dudgeon, Superintendent, at the address above. Telephone: 907-457-5752. General information about Gates of the Arctic National Park and Preserve is available on the Internet at http://www.nps.gov/gaar.

SUPPLEMENTARY INFORMATION: Before including your address, phone number, e-mail address, or other personal identifying information in your comment, you should be aware that your entire comment—including your personal identifying information—may be made publicly available at any time. While you can ask us in your comment to withhold your personal identifying information from public review, we cannot guarantee that we will be able to do so.

Dated: January 11, 2010.
Sue E. Masica,
Regional Director, Alaska.

[FR Doc. 2010-1568 Filed 1-26-10; 8:45 am]

BILLING CODE P